DEPARTMENT OF ENERGY

Federal Energy Regulatory Commission

Notice of FERC Staff Attendance at MISO Transmission Service/AFC Workshop

August 5, 2004.

The Federal Energy Regulatory Commission hereby gives notice that members of its staff may attend the meeting of the Midwest Independent Transmission System Operator, Inc. (MISO) Transmission Service/AFC Workshop noted below. The staff's attendance is part of the Commission's ongoing outreach efforts.

MISO Transmission Service/AFC Workshop—August 12, 2004, 10 a.m.-3 p.m. (c.s.t.), Lakeside Conference Center (directly across from MISO's headquarters), 630 West Carmel Drive, Carmel, IN 46032.

The discussions may address matters at issue in the following proceedings:

Docket No. RM01-12-000, Remedying Undue Discrimination Through Open Access Transmission Service and Standard Electricity Market Design.

Docket No. EL02-65-000, et al., Alliance Companies, et al.

Docket No. RT01-87-000, et al., Midwest Independent Transmission System Operator, Inc.

Docket No. ER03-323, et al., Midwest Independent Transmission System Operator, Inc.

Docket No. ER03-1118, Midwest Independent Transmission System Operator, Inc.

Docket No. ER04-691 and EL04-104, Midwest Independent Transmission System Operator, Inc., et al.

Docket No. ER04-375, Midwest Independent Transmission System Operator, Inc., et al.

Docket Nos. EL04-43 and EL04-46, Tenaska Power Services Co. and Cargill Power Markets, LLC v. Midwest Independent Transmission System Operator, Inc.

The meeting is open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E4-1799 Filed 8-11-04; 8:45 am]

BILLING CODE 6717-01-P